DEPARTMENT OF ENERGY

Federal Energy Regulatory Commission

Combined Notice of Filings #1

Take notice that the Commission received the following electric corporate filings:

Docket Numbers: EC25-63-000.

Applicants: Altona Solar, LLC, Earp Solar, LLC, BCD 2023 Fund 1 Lessee, LLC, Envoy Solar, LLC, BCD 2024 Fund 5 Lessee, LLC, Kimmel Road Solar, LLC, BCD 2024 Fund 3 Lessee, LLC, Richland Township Solar, LLC, Richland Township Solar II, LLC, BCD 2024 Fund 4 II Lessee, LLC, Salt Creek Township Solar, LLC, BCD 2024 Fund 1 Lessee, LLC, Harts Mill Solar, LLC, Harts Mill TE Holdings LLC, Apollo Global Management, Inc.

Description: Joint Application for Authorization Under Section 203 of the Federal Power Act of Irradiant Partners, LP, et al.

Filed Date: 3/14/25.

Accession Number: 20250314-5351.

Comment Date: 5 p.m. ET 4/4/25.

Take notice that the Commission received the following exempt wholesale generator filings:

Docket Numbers: EG25-229-000.

Applicants: Weld Energy Storage, LLC.

Description: Weld Energy Storage, LLC submits Notice of Self-Certification of Exempt Wholesale Generator Status.

Filed Date: 3/17/25.

Accession Number: 20250317-5056.

Comment Date: 5 p.m. ET 4/7/25.

Docket Numbers: EG25-230-000.

Applicants: Appleseed Solar, LLC.

Description: Appleseed Solar, LLC submits Notice of Self-Certification of Exempt Wholesale Generator Status.

Filed Date: 3/17/25.

Accession Number: 20250317-5060.

Comment Date: 5 p.m. ET 4/7/25.

Docket Numbers: EG25-231-000.

Applicants: ORNI 30 LLC.

Description: ORNI 30 LLC submits Notice of Self-Certification of Exempt Wholesale Generator Status.

Filed Date: 3/17/25.

Accession Number: 20250317-5062.

Comment Date: 5 p.m. ET 4/7/25.

Docket Numbers: EG25-232-000.

Applicants: VESI 15 LLC.

Description: VESI 15 LLC submits Notice of Self-Certification of Exempt Wholesale Generator Status.

Filed Date: 3/17/25.

Accession Number: 20250317-5063.

Comment Date: 5 p.m. ET 4/7/25.

Docket Numbers: EG25-233-000.

Applicants: SF Azalea, LLC.

Description: SF Azalea, LLC submits Notice of Self-Certification of Exempt Wholesale Generator Status.

Filed Date: 3/17/25.

Accession Number: 20250317-5085.

Comment Date: 5 p.m. ET 4/7/25.

Take notice that the Commission received the following electric rate filings:

Docket Numbers: ER10-2984-071.

Applicants: Merrill Lynch Commodities, Inc.

Description: Notice of Change in Status of Merrill Lynch Commodities, Inc.

Filed Date: 3/13/25.

Accession Number: 20250313-5244.

Comment Date: 5 p.m. ET 4/3/25.

Docket Numbers: ER22-1640-005.

Applicants: Midcontinent Independent System Operator, Inc.

Description: Compliance filing: 2025-03-17_Compliance for Order No. 2222 to be effective 6/1/2029.

Filed Date: 3/17/25.

Accession Number: 20250317-5047.

Comment Date: 5 p.m. ET 4/7/25.

Docket Numbers: ER23-1569-005.

Applicants: Yellowbud Solar, LLC.

Description: Compliance filing: Informational Filing Pursuant to Schedule 2 of the PJM Interconnection to be effective N/A.

Filed Date: 3/14/25.

Accession Number: 20250314-5282.

Comment Date: 5 p.m. ET 4/4/25.

Docket Numbers: ER24-1384-002.

Applicants: Tampa Electric Company.

Description: Compliance filing: Amendment—Compliance Filing.

Filed Date: 3/17/25.

Accession Number: 20250317-5075.

Comment Date: 5 p.m. ET 4/7/25.

Docket Numbers: ER25-747-001.

Applicants: The Connecticut Light and Power Company.

Description: Tariff Amendment: February 13, 2025 Letter, CL&P—Docket No. ER25-747 to be effective 2/17/2025.

Filed Date: 3/17/25.

Accession Number: 20250317-5124.

Comment Date: 5 p.m. ET 4/7/25.

Docket Numbers: ER25-1632-000.

Applicants: PJM Interconnection, L.L.C.

Description: § 205(d) Rate Filing: Original GIA, Service Agreement No. 7592; AE2-276 to be effective 2/12/2025.

Filed Date: 3/14/25.

Accession Number: 20250314-5299.

Comment Date: 5 p.m. ET 4/4/25.

Docket Numbers: ER25-1633-000.

Applicants: Valley Link Transmission Maryland, LLC, Valley Link Transmission Virginia, LLC, Valley Link Transmission West Virginia, LLC.

Description: § 205(d) Rate Filing: Valley Link Transmission Maryland, LLC submits tariff filing per 35.13(a)(2)(iii: Valley Link Transmission Formula Rate Filing and Transmission Rate Incentives to be effective 5/14/2025.

Filed Date: 3/14/25.

Accession Number: 20250314-5309.

Comment Date: 5 p.m. ET 4/4/25.

Docket Numbers: ER25-1638-000.

Applicants: Yellowbud Solar, LLC.

Description: Yellowbud Solar, LLC respectfully requests a one-time waiver of the 90-day prior notice requirement set forth in Schedule 2 to the PJM Interconnection, L.L.C. Open Access Transmission Tariff.

Filed Date: 3/14/25.

Accession Number: 20250314-5339.

Comment Date: 5 p.m. ET 4/4/25.

Docket Numbers: ER25-1639-000; TS25-1-000.

Applicants: Bartonsville Energy Facility, LLC, Bartonsville Energy Facility, LLC.

Description: Bartonsville Energy Facility, LLC respectfully requests temporary prospective waiver of the open access transmission tariff, open access same-time information system and Standards of Conduct requirements.

Filed Date: 3/13/25.

Accession Number: 20250313-5243.

Comment Date: 5 p.m. ET 4/3/25.

Docket Numbers: ER25-1648-000.

Applicants: PJM Interconnection, L.L.C.

Description: Tariff Amendment: Cancellation of WMPA, SA No. 6090; AF2-367 re: Breach to be effective 5/17/2025.

Filed Date: 3/17/25.

Accession Number: 20250317-5080.

Comment Date: 5 p.m. ET 4/7/25.

Docket Numbers: ER25-1652-000.

Applicants: PacifiCorp.

Description: § 205(d) Rate Filing: OATT Revised Attachment H-1—(Rev Depreciation Rates 2025) to be effective 6/1/2025.

Filed Date: 3/17/25.

Accession Number: 20250317-5087.

Comment Date: 5 p.m. ET 4/7/25.

Docket Numbers: ER25-1653-000.

Applicants: Florida Power & Light Company.

Description: Compliance filing: Order No. 904 Compliance Filing to be effective 6/1/2025.

Filed Date: 3/17/25.

Accession Number: 20250317-5109.

Comment Date: 5 p.m. ET 4/7/25.

Docket Numbers: ER25-1654-000.

Applicants: SF Azalea, LLC.

Description: § 205(d) Rate Filing: SF Azalea, LLC MBR Tariff to be effective 5/17/2025.

Filed Date: 3/17/25.

Accession Number: 20250317-5126.

Comment Date: 5 p.m. ET 4/7/25.

Docket Numbers: ER25-1655-000.

Applicants: PJM Interconnection, L.L.C.

Description: Tariff Amendment: Cancellation of WMPA, SA No. 6089; AF2-368 re: Breach to be effective 5/17/2025.

Filed Date: 3/17/25.

Accession Number: 20250317-5129.

Comment Date: 5 p.m. ET 4/7/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 17, 2025.
Carlos D. Clay,
Deputy Secretary.

[FR Doc. 2025-04848 Filed 3-20-25; 8:45 am]

BILLING CODE 6717-01-P